DEPARTMENT OF ENERGY

Bonneville Power Administration

Columbia Basin Fish Accords

AGENCY: Bonneville Power Administration (BPA), Department of Energy (DOE).

ACTION: Notice of availability of Record of Decision (ROD).

SUMMARY: This notice announces the availability of the ROD for the 2008 Columbia Basin Fish Accords (Accords) consistent with and tiered to the Fish and Wildlife Implementation Plan Environmental Impact Statement (DOE/EIS-0312, April 2003) and ROD (October 31, 2003). BPA has decided to enter into these agreements to help mitigate the impacts of the Federal Columbia River Power System on fish species, particularly salmon and steelhead listed under the Endangered Species Act with projects that are expected to produce significant and measurable biological effects. Projects will be implemented throughout the states of Idaho, Montana, Oregon, and Washington. The Accords are 10-year agreements with four tribes, two states, and two other federal agencies. The Accords will provide greater certainty and stability to BPA's mitigation funding commitments and help BPA manage its financial risks. The Accords will also resolve some of the outstanding issues regarding BPA's compliance with its fish and wildlife mitigation and recovery responsibilities. The Accords will also help BPA meet its treaty and trust responsibilities to the tribes.

ADDRESSES: Copies of the ROD may be obtained by calling BPA's toll-free document request line, 1-800-622-4520. The ROD is also available on the BPA Web site, http://www.bpa.gov/corporate/pubs/rods/2008/MOA_ROD.pdf.

FOR FURTHER INFORMATION CONTACT: Sandra Ackley, Bonneville Power Administration—KEC-4, P.O. Box 3621, Portland, Oregon 97208-3621; toll-free telephone number 1-800-282-3713; fax number 503-230-5699; or e-mail sjackley@bpa.gov.

Issued in Portland, Oregon, on May 2, 2008.
Stephen J. Wright,
Administrator, and Chief Executive Officer.

[FR Doc. E8-10435 Filed 5-8-08; 8:45 am]

BILLING CODE 6450-01-P